DEPARTMENT OF ENERGY

Federal Energy Regulatory Commission

[Docket Nos. EL00-95-000, et al., EL00-98-000, et al., and ER03-746-000, et al.]

San Diego Gas & Electric Company; Investigation of Practices of the California Independent System Operator and the California Power Exchange California Independent System Operator; Notice of Meeting With the California Independent System Operator and the California Power Exchange

July 16, 2004.

The Federal Energy Regulatory Commission (FERC) staff will hold a meeting with the California Independent System Operator (CAISO) and the California Power Exchange (CalPX) to discuss procedures, remaining steps and timeline for completing the calculation of refunds in the California Refund proceeding. The meeting will be held on Monday, July 26, 2004.

The purpose of the meeting is to provide a forum for FERC staff, CAISO, and CalPX to discuss the remaining work to complete the refund calculations. The following issues will be among those to be discussed at the July 26 meeting:

I. Preparatory Rerun Process

A. Status and timeline for completion of the refund rerun effort.

B. Status of dispute resolution process.

C. Process for resolving GFN requests during the refund period.

D. Impact of CalPX bankruptcy on preparatory reruns.

E. Process for calculating fuel price adjustment.

F. Compliance filing—elements of the filing and timetable for filing.

II. Refund Reun Process

A. Process for allocation of emissions allowance.

B. Process for accounting for imbalance energy.

C. Any other procedural issues related to the refund rerun.

III. Financial Settlement Phase

A. Process for completing this stage, including interest calculations, fuel price adjustments or other inputs.

B. Process for calculating interest.

C. Scope of the compliance filing.

D. Flow chart for the refunds.

E. Impact of global settlements on this process.

This meeting will begin at 10 a.m. (e.s.t.) at 888 First Street, NE., Washington DC in the Commission Meeting Room.

Questions about this meeting should be directed to: Andrea Hilliard, Office of the General Counsel—Markets, Tariffs and Rates, Federal Energy Regulatory Commission, 888 First Street, NE., Washington, DC 20426; (202) 502-8288, andrea.hilliard@ferc.gov.

Magalie R. Salas,
Secretary.

[FR Doc. E4-1639 Filed 7-21-04; 8:45 am]

BILLING CODE 6717-01-P